DEPARTMENT OF DEFENSE

Department of the Army

[Docket ID: USA-228-0015]

Privacy Act of 1974; System of Records

AGENCY: Department of the Army, DoD.

ACTION: Notice to Amend a System of Records.

SUMMARY: The Department of the Army is amending a system of records notice in its existing inventory of record systems subject to the Privacy Act of 1974, (5 U.S.C. 552a), as amended.

DATES: This proposed action will be effective without further notice on August 6, 2008 unless comments are received which result in a contrary determination.

ADDRESSES: Send comments to the Department of the Army, PA/FOIA Division, 7701 Telegraph Road, Alexandria, VA 22315.

FOR FURTHER INFORMATION CONTACT: Ms. Vicki Short at (703) 428-6508.

SUPPLEMENTARY INFORMATION: The Department of the Army systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: June 30, 2008.
Patricia L. Toppings,
OSD Federal Register Liaison Officer, Department of Defense.

A0614-100/200 USAREC

System name:

Recruiter Identification/Assignment Records (July 27, 1993, 58 FR 40115).

Changes:

System ID

Delete entry and replace with “A0614-100/200 TRADOC”.

* * * * *

System location:

Delete entry and replace with “U.S. Army Recruiting Command, Building 1307, 3rd Avenue, Fort Knox, KY 40121-2725.”

* * * * *

Categories of records in the system:

Correct the spelling of therefor to “therefore”.

Authority for maintenance of the system:

Delete entry and replace with “5 U.S.C. 301, Departmental Regulations; U.S.C. 3013, Secretary of Army; AR 614-100, Officer Assignment Policies, Details, and Transfers; AR 614-200, Enlisted Assignments and Utilization Management; and E.O. 9397 (SSN).”

* * * * *

Storage:

Delete entry and replace with “Paper records and electronic storage media.”

* * * * *

Safeguards:

Correct the spelling of therefor to “therefore”.

* * * * *

System manager(s) and address:

Delete entry and replace with “U.S. Army Recruiting Command, Building 1307, 3rd Avenue, Fort Knox, KY 40121-2725.”

Notification procedure:

Delete entry and replace with “Individuals seeking to determine whether information about themselves is contained in this system should address written inquiries to the Commander, U.S. Army Recruiting Command, ATTN: Director, Personnel, Administration and Logistics, Building 1307, 3rd Avenue, Fort Knox, KY 40121-2725.

Requests should contain full name, Social Security Number (SSN), military status, duty or home address, and signature.

In addition, the requester must provide a notarized statement or an unsworn declaration in accordance with 28 U.S.C. 1746, in the following format:

If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

Record access procedures:

Delete entry and replace with “Individuals seeking access to information about themselves contained in this system should address written inquiries to the Commander, U.S. Army Recruiting Command, ATTN: Director, Personnel, Administration and Logistics, Building 1307, 3rd Avenue, Fort Knox, KY 40121-2726. Requests should contain full name, Social Security Number (SSN), military status, duty or home address, and signature.

In addition, the requester must provide a notarized statement or an unsworn declaration in accordance with 28 U.S.C. 1746, in the following format:

If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

* * * * *

A0614-100/200 TRADOC

System name:

Recruiter Identification/Assignment Records.

System location:

U.S. Army Recruiting Command, Building 1307, 3rd Avenue, Fort Knox, KY 40121-2725.

Categories of individuals covered by the system:

Soldiers who are considered for, are assigned, or have been assigned to recruiting duty.

Categories of records in the system:

Name, Social Security Number (SSN), rank, MOS, qualifications; duty station preference, unit of assignment and reporting date; recruiter identification number; if either not selected for or relieved from recruiting duty, record includes reasons therefore and other relevant information.

Authority for maintenance of the system:

5 U.S.C. 301, Departmental regulations; 10 U.S.C., Secretary of Army; AR 614-100, Officer Assignment Policies, Details, and Transfers; AR 614-200, Enlisted Assignments and Utilization Management; and E.O. 9397 (SSN).

Purpose(s):

To evaluate recruiter production, assign recruiting objectives, ensure that previously relieved recruiters are not assigned to recruiting duties, and to render personnel and management reports.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

Policies and practices for storing, retrieving, accessing, retaining, and disposing of records in the system:

Storage:

Paper records in file folders and electronic storage media.

Retrievability:

By individual's surname and four digit recruiter identification number.

Safeguards:

Records are maintained in area accessible only to properly screened and trained personnel having official need therefore; paper records are stored in locked file cabinets.

Retention and disposal:

Both automated and manual records are retained so long as individual is assigned to recruiting duty and for 6 years thereafter, following which records are destroyed by erasing and/or shredding.

System manager(s) and address:

U.S. Army Recruiting Command, Building 1307, 3rd Avenue, Fort Knox, KY 40121-2725.

Notification procedure:

Individuals seeking to determine whether information about themselves is contained in this system should address written inquiries to the Commander, U.S. Army Recruiting Command, ATTN: Director, Personnel, Administration and Logistics, Building 1307, 3rd Avenue, Fort Knox, KY 40121-2725.

Requests should contain full name, Social Security Number (SSN), military status, duty or home address, and signature. In addition, the requester must provide a notarized statement or an unsworn declaration in accordance with 28 U.S.C. 1746, in the following format:

If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

Record access procedures:

Individuals seeking access to information about themselves contained in this system should address written inquiries to the Commander, U.S. Army Recruiting Command, ATTN: Director, Personnel, Administration and Logistics, Building 1307, 3rd Avenue, Fort Knox, KY 40121-2726.

Requests should contain full name, Social Security Number (SSN), military status, duty or home address, and signature. In addition, the requester must provide a notarized statement or an unsworn declaration in accordance with 28 U.S.C. 1746, in the following format:

If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

Contesting record procedures:

The Army's rules for accessing records, and for contesting contents and appealing initial agency determinations are contained in Army Regulation 340-21; 32 CFR part 505; or may be obtained from the system manager.

Record source categories:

From U.S. Army Military Personnel Center (Enlisted Distribution Division), individual's unit commander, other Army records and reports.

Exemptions claimed for the system:

None.

[FR Doc. E8-15348 Filed 7-3-08; 8:45 am]

BILLING CODE 5001-06-P